DEPARTMENT OF HEALTH AND HUMAN SERVICES

Administration for Children and Families

Proposed Information Collection Activity; Comment Request

Proposed Projects:

Title: DHHS/ACF/ASPE/DOL Enhanced Services for the Hard-to-Employ Demonstration and Evaluation: Philadelphia 36-Month Data Collection.

OMB No. New Collection.

Description: The Enhanced Services for the Hard-to-Employ Demonstration and Evaluation Project (HtE) seeks to learn what services improve the employment prospects of low-income persons who face serious obstacles to steady work. The project is sponsored by the Office of Planning, Research and Evaluation (OPRE) within the Administration for Children and Families (ACF) and the Office of the Assistant Secretary for Planning and Evaluation (ASPE), both within the U.S. Department of Health and Human Services (HHS), and the U.S. Department of Labor (DOL). The HtE project is a multi-year, multi-site evaluation that employs an experimental longitudinal research design to test four strategies aimed at promoting employment among hard-to-employ populations. The four include: (1) Intensive care management and job services program for Rhode Island Medicaid recipients with serious depression; (2) job readiness training, worksite placements, job coaching, job development and other training opportunities for recent parolees in New York City; (3) pre-employment services and transitional employment for long-term participants receiving Temporary Assistance for Needy Families (TANF); and (4) two-generational Early Head Start (EHS) services providing enhanced self-sufficiency services for parents, parent skills training, and high-quality child care for children in low-income families in Kansas and Missouri.

The purpose of the current document is to request public comment on the 36-month participant survey in Philadelphia. The research team plans to collect participant-reported surveys assessing participants' employment, education and economic outcomes, participation in employment and training services, receipt of benefits and services such as food stamps and mental health services, housing and household information, health and health care coverage, child care, and child outcomes.

The follow-up survey at the 36-month follow-up in Philadelphia will be used for the following purposes: To study the extent to which pre-employment services and transitional employment affect employment, earnings, income, and welfare dependence of low-income TANF recipients; to examine the impacts of these services on participants' health, receipt of benefits such as food stamps, Medicaid, and child-care subsidies, and participation in services such as substance abuse treatment and mental health services; and to collect data on a wider range of outcomes measures than is available through welfare, Medicaid, Food Stamps, Social Security, and Unemployment Insurance records.

The 36-month data collection effort draws heavily from the 15-month survey conducted in this site. Materials for the 15-month data collection effort were previously submitted to OMB and were approved (OMB Control No. 0970-0276).

Respondents: TANF recipients without a high school diploma and/or recipients who have received TANF for at least 12 months.

The fielded sample of the 36-month data collection effort will be all 1,944 participants in the two program groups and the control group of the HtE project in Philadelphia. The burden estimates below assume an 80 percent response rate of the fielded sample.

The annual burden estimates are detailed below, and the substantive content of each component will be detailed in the supporting statement attached to the forthcoming 30-day notice.

Annual Burden Estimates
Instrument | Number of respondents | Number of responses per respondent | Average burden hours per response | Total burden hours
Philadelphia 36-month participant survey | 1,555 | 1 | 0.75 | 1,166

Estimated Total Annual Burden Hours: 1,166.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447, Attn: ACF Reports Clearance Officer. E-mail address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: June 13, 2007.
Brendan Kelly,
OPRE Reports Clearance Officer.

[FR Doc. 07-2998 Filed 6-18-07; 8:45 am]

BILLING CODE 4184-01-M